FEDERAL RESERVE SYSTEM

Formations of, Acquisitions by, and Mergers of Savings and Loan Holding Companies

The companies listed in this notice have applied to the Board for approval, pursuant to the Home Owners' Loan Act (12 U.S.C. 1461 et seq.) (HOLA), Regulation LL (12 CFR part 238), and Regulation MM (12 CFR part 239), and all other applicable statutes and regulations to become a savings and loan holding company and/or to acquire the assets or the ownership of, control of, or the power to vote shares of a savings association.

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on whether the proposed transaction complies with the standards enumerated in the HOLA (12 U.S.C. 1467a(e)).

Comments regarding each of these applications must be received at the Reserve Bank indicated or the offices of the Board of Governors, Ann E. Misback, Secretary of the Board, 20th Street and Constitution Avenue NW, Washington DC 20551-0001, not later than October 19, 2020.

A. Federal Reserve Bank of Atlanta (Kathryn Haney, Assistant Vice President) 1000 Peachtree Street, NE, Atlanta, Georgia 30309. Comments can also be sent electronically to Applications.Comments@atl.frb.org:

1. Community First Bancshares, MHC, Covington, Georgia; to convert from mutual to stock form. As part of the conversion, Community First Bancshares, MHC, and Community First Bancshares, Inc., Covington, Georgia, an existing mid-tier savings and loan holding company, will cease to exist and Newton Federal Bank, Covington, Georgia, will become a wholly-owned subsidiary of Affinity Bancshares Inc., Covington, Georgia, a newly-formed Maryland corporation, which has applied to become a savings and loan holding company by acquiring Newton Federal Bank.

B. Federal Reserve Bank of Philadelphia (William Spaniel, Senior Vice President) 100 North 6th Street, Philadelphia, Pennsylvania 19105-1521. Comments can also be sent electronically to Comments.applications@phil.frb.org:

1. The Seneca Falls Savings Bank, MHC, Seneca Falls, New York; to convert from mutual to stock form. As part of the conversion, The Seneca Falls Savings Bank, MHC and Seneca-Cayuga Bancorp, Inc., Seneca Falls, New York, an existing mid-tier savings and loan holding company, will cease to exist and Generations Bank, Seneca Falls, New York, will become a wholly-owned subsidiary of Generations Bancorp NY, Inc., Seneca Falls, New York, a newly formed Maryland corporation, which has applied to become a savings and loan holding company by acquiring Generations Bank.

Board of Governors of the Federal Reserve System, September 15, 2020.
Yao-Chin Chao,
Assistant Secretary of the Board.

[FR Doc. 2020-20662 Filed 9-17-20; 8:45 am]

BILLING CODE P